DEPARTMENT OF THE INTERIOR

National Park Service

Captain John Smith Chesapeake National Historic Trail Advisory Council

AGENCY: National Park Service, Interior.

ACTION: Notice of meeting.

SUMMARY: As required by the Federal Advisory Committee Act, the National Park Service (NPS) is hereby giving notice that the Advisory Committee on the Captain John Smith Chesapeake National Historic Trail will hold a meeting. Designated through an amendment to the National Trails System Act (16 U.S.C. 1241), the trail consists of “a series of water routes extending approximately 3,000 miles along the Chesapeake Bay and its tributaries in the States of Virginia, Maryland, Delaware, and in the District of Columbia,” tracing the 1607-1609 voyages of Captain John Smith to chart the land and waterways of the Chesapeake Bay. This meeting is open to the public. Preregistration is required for both public attendance and comment. Any individual who wishes to attend the meeting and/or participate in the public comment session should register via email at Christine_Lucero@nps.gov or telephone: (757) 258-8914. For those wishing to make comments, please provide a written summary of your comments prior to the meeting. The Designated Federal Official for the Advisory Council is John Maounis, Superintendent, Captain John Smith National Historic Trail, telephone: (410) 260-2471.

DATES: The Captain John Smith Chesapeake National Historic Trail Advisory Council will meet from 10 a.m. to 4:30 p.m. on Thursday, November 12, 2009.

ADDRESSES: The meeting will be held at the Earth Conservation Corps Building, 2000 Half Street, SW., Washington, DC 20024. For more information, please contact the NPS Chesapeake Bay Program Office, 410 Severn Avenue, Suite 314, Annapolis, MD 21403.

FOR FURTHER INFORMATION CONTACT: Christine Lucero, Partnership Coordinator for the Captain John Smith Chesapeake National Historic Trail, telephone: (757) 258-8914 or email: Christine_Lucero@nps.gov.

SUPPLEMENTARY INFORMATION: Under section 10(a)(2) of the Federal Advisory Committee Act (5 U.S.C. App.), this notice announces a meeting of the Captain John Smith Chesapeake National Historic Trail Advisory Council for the purpose of reviewing Comprehensive Management Plan alternatives.

The Committee meeting is open to the public. Members of the public who would like to make comments to the Committee should preregister via email at Christine_Lucero@nps.gov or telephone: (757) 258-8914; a written summary of comments should be provided prior to the meeting. Comments will be taken for 30 minutes at the end of the meeting (from 4 p.m. to 4:30 p.m.). All comments will be made part of the public record and will be electronically distributed to all Committee members.

Dated: September 10, 2009.
John Maounis,
Superintendent, Captain John Smith National Historic Trail, National Park Service, Department of the Interior.

[FR Doc. E9-24998 Filed 10-15-09; 8:45 am]

BILLING CODE 4312-52-P